SMALL BUSINESS ADMINISTRATION

[Disaster Declaration #13703 and #13704]

South Dakota Disaster Number SD-00061

AGENCY: U.S. Small Business Administration.

ACTION: Amendment 1.

SUMMARY: This is an amendment of the Presidential declaration of a major disaster for Public Assistance Only for the State of South Dakota (FEMA-4137-DR), dated 08/02/2013.

Incident: Severe Storms, Tornadoes, and Flooding.

Incident Period: 06/19/2013 through 06/29/2013.

DATES: Effective Date: 08/27/2013.

Physical Loan Application Deadline Date: 10/01/2013.

Economic Injury (EIDL) Loan Application Deadline Date: 05/02/2014.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: The notice of the President's major disaster declaration for Private Non-Profit organizations in the State of South Dakota, dated 08/02/2013, is hereby amended to include the following areas as adversely affected by the disaster.

Primary Counties: Spink.

All other information in the original declaration remains unchanged.

(Catalog of Federal Domestic Assistance Numbers 59002 and 59008)

James E. Rivera,
Associate Administrator for Disaster Assistance.

[FR Doc. 2013-22045 Filed 9-10-13; 8:45 am]

BILLING CODE 8025-01-P